DEPARTMENT OF JUSTICE

Notice of Lodging of Proposed Settlement Agreement Under the Comprehensive Environmental Response, Compensation, and Liability Act

On August 26, 2022, the Department of Justice lodged a proposed Settlement Agreement entered into with J.J.W. Metal, Corp. (“J.J.W. Metal”) in the United States Bankruptcy Court for the District of Puerto Rico in In re J.J.W. Metal Corp., Case No. 20-04536-EAG11. J.J.W. Metal is a potentially responsible party under section 107(a) of the Comprehensive Environmental Response, Compensation, and Liability Act (“CERCLA”), 42 U.S.C. 9607(a), at the JJW Metal Recycling Superfund Site located at 756 Los Colobos Street, Carolina, Puerto Rico (the “Site”). Under the Settlement Agreement, the United States, on behalf of the United States Environmental Protection Agency (“EPA”), will have an allowed claim in the amount of $300,000. This allowed claim will be paid as a Class 6 allowed general unsecured claim under the terms of the Third Amended Plan of Reorganization (“Plan”) in 60 monthly payments over a period of five years at 4.5% interest (unless there is a deferral of the payments under Article V of the Plan, for a period of up to a year, due to the need for J.J.W. Metal to relocate its operations.)

EPA has provided a covenant not to file a civil action or take administrative action against J.J.W. Metal pursuant to Sections 106 or 107 of CERCLA, 42 U.S.C. 9606 or 9607, with respect to the Site. The covenant does not apply to any right against J.J.W. Metal with respect to the Site for liability under federal or state law for acts by the J.J.W. Metal that occur after the date of lodging of the Settlement Agreement.

The publication of this notice opens a period for public comment on the Settlement Agreement. Comments should be addressed to the Assistant Attorney General, Environment and Natural Resources Division, and should refer to In re J.J.W. Metal, Corp., Case No. 20-04536-EAG11 (Bankr. D.P.R.), D.J. Ref. No. 90-11-3-12537. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined and downloaded at this Justice Department website: https://www.justice.gov/enrd/consent-decrees. We will provide a paper copy of the Settlement Agreement upon written request and payment of reproduction costs. Please mail your request and payment to: Consent Decree Library, U.S. DOJ—ENRD, P.O. Box 7611, Washington, DC 20044-7611.

Please enclose a check or money order for $3.00 (25 cents per page reproduction cost) payable to the United States Treasury.

Henry Friedman,
Assistant Section Chief, Environmental Enforcement Section, Environment and Natural Resources Division.

[FR Doc. 2022-18820 Filed 8-30-22; 8:45 am]

BILLING CODE 4410-15-P